SMALL BUSINESS ADMINISTRATION

[Disaster Declaration #20395 and #20396; OKLAHOMA Disaster Number OK-20005]

Presidential Declaration Amendment of a Major Disaster for Public Assistance Only for the State of Oklahoma

AGENCY: U.S. Small Business Administration.

ACTION: Amendment 1.

SUMMARY: This is an amendment of the Presidential declaration of a major disaster for Public Assistance Only for the State of Oklahoma (FEMA-4791-DR), dated 06/14/2024.

Incident: Severe Storms, Straight-line Winds, Tornadoes, and Flooding.

Incident Period: 05/19/2024 through 05/28/2024.

DATES: Issued on 07/16/2024.

Physical Loan Application Deadline Date: 08/13/2024.

Economic Injury (EIDL) Loan Application Deadline Date: 03/14/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Oklahoma, dated 06/14/2024, is hereby amended to include the following areas as adversely affected by the disaster.

Primary Counties: Caddo, Custer, Jackson, Roger Mills, Woods

All other information in the original declaration remains unchanged.

(Catalog of Federal Domestic Assistance Number 59008)

Francisco Sánchez, Jr.,
Associate Administrator, Office of Disaster Recovery & Resilience.

[FR Doc. 2024-16329 Filed 7-24-24; 8:45 am]

BILLING CODE 8026-09-P